FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/Address | Date Reissued
17370NF | Antilles Wholesale Company, 1759 Bay Road, Miami Beach, FL 33139 | November 9, 2002.
16503NF | Lukini Shipping Inc., Cargo Building 80, Rm. 203, Jamaica, NY 11430 | May 25, 2002.
3896F | Sino AM Cargo, Inc., 1335 Evans Avenue, San Francisco, CA 94124 | April 4, 2001.

Sandra L. Kusumoto,
Director, Bureau of Consumer Complaints and Licensing.

[FR Doc. 03-1490 Filed 1-22-03; 8:45 am]

BILLING CODE 6730-01-P